DEPARTMENT OF THE INTERIOR

National Park Service

General Management Plan Abbreviated Final Environmental Impact Statement Death Valley National Park, California/Nevada; Notice of Approved Record of Decision

SUMMARY: The Department of the Interior, National Park Service, has prepared a Record of Decision on the Final General Management Plan and Abbreviated Final Environmental Impact Statement for Death Valley National Park. The Record of Decision includes background on the conservation planning effort, a description of the decision made and synopses of other alternatives considered, the basis for the decision, findings on impairment of park resources and values, a description of the environmentally preferable alternative, a discussion of measures to minimize environmental harm, and an overview of public and agency involvement in the decision-making process. The new General Management Plan will be used by park staff as a “blueprint” for managing the park over the next 10-15 years.

Decision (Selected Action): As detailed in the Record of Decision, the National Park Service (NPS) will implement Alternative 1, the proposed action, described in the Revised Draft Environmental Impact Statement and General Management Plan and the Abbreviated Final Environmental Impact Statement and General Management Plan. As a public service subsequent to the approval of the Record of Decision, the NPS will excerpt and reprint the final General Management Plan (the selected alternative) as a stand-alone Presentation Plan document. The selected alternative was both the agency-preferred alternative and the environmentally preferred alternative.

The selected plan represents the best mix of actions, policies, and strategies for the management of Death Valley National Park, given diverse public opinion and varying mandates. The General Management Plan (GMP) envisions the park as a natural environment and a cultural landscape (an arid ecosystem overlain by many layers of human occupation and use from prehistoric to historic to the present time), where the protection of native desert ecosystems and processes is assured for future generations. The protection and perpetuation of native species in a self-sustaining environment is a primary long-term goal. The GMP seeks to manage the park to perpetuate the sense of discovery and adventure that currently exists. This means limiting new development inside the park. The GMP envisions adjacent “gateway” communities as providing increased support services (food, gas, and lodging) for visitors, but also seeks to retain current opportunities for roadside camping, backcountry camping, and access to the backcountry via existing primitive roads, consistent with the NPS mission. The current park management strategies and policies will apply to the new park lands and put in place the necessary planning and management components to adequately address the Wilderness designation of 95% of the park lands. The GMP also fulfills the NPS mission of resource preservation and provision of visitor services while achieving other mandates from Congress. A stated goal of the GMP is to seek funding to purchase private property within the park from willing sellers.

Other Alternatives Considered: In addition to the proposal, other alternatives considered included “existing management” and an “optional management” approach. The existing management alternative (Alternative 2) describes the continuation of current management strategies. It is commonly referred to as the no-action or status quo alternative. It provides a baseline from which to compare other alternatives, to evaluate the magnitude of proposed changes, and to assess the potential environmental effects of those changes. This “no new actions” concept follows the guidance of the Council on Environmental Quality, which describes the No Action Alternative as no change from the existing management direction or level of management intensity. It does not mean that no agency management actions would be taken. Death Valley National Park would continue managing the park according to policies and strategies identified in the 1989 GMP.

The optional approach (Alternative 3) is similar to the proposed action, except this alternative identifies the closing and restoration to a natural condition of the Chicken Strip airstrip at Saline Valley (adversely affecting those people who visit the area by airplane). This alternative also proposes closing the historic Emigrant campground because of potential flood hazards. All areas within the Eureka-Saline wilderness road corridor would be open for roadside camping. Designated car camping sites would be established in the area of the Saline Valley warm springs. Additional distinctions were detailed in the approved Record of Decision.

Basis for Decision: The selected GMP provides a logical, systematic and proactive approach to management of the Park in compliance with NPS laws, regulations and policies. The further rationale for selecting Alternative 1 over the no-action Alternative is based on the lessened environmental impacts that would be anticipated to occur by seeking funds and implementing activities identified in the proposed plan. Public opinion also helped inform the NPS's preferred approach over Alternative 3. In particular, preserving the natural quiet and sounds associated with the physical and biological resources of the park, management of Wilderness for maximum protection, funding of the full removal of feral burros, enhanced interpretive information to educate the public on desert ecosystems, geological processes, and the prehistoric, historical and Native American record, and improved administrative operations are among the key elements of the new GMP.

No Impairment of Park Resources and Values: The NPS may not allow the impairment of park resources and values unless directly and specifically provided for by legislation or by the proclamation establishing the park. Impairment that is prohibited by the NPS's Organic Act and the General Authorities Act is an impact that, in the professional judgment of the responsible manager, would harm the integrity of park resources or values, including the opportunities that otherwise would be present for the enjoyment of those resources or values. In determining whether impairment may ensue from an action, park managers consider duration, severity, and magnitude of the impact; resources and values affected; and direct, indirect, and cumulative effects of the action. According to NPS Policy, “An impact would be more likely to constitute an impairment to the extent that it affects a resource or value whose conservation is: (a) Necessary to fulfill specific purposes identified in the establishing legislation or proclamation of the park; (b) Key to the natural or cultural integrity of the park or to opportunities for enjoyment of the park; or (c) Identified as a goal in the park's general management plan or other relevant National Park Service planning documents.” (NPS Management Policies, 2001).

This policy does not prohibit impacts to park resources and values. The NPS has the discretion to allow impacts to park resources and values when necessary and appropriate to fulfill the purposes of a park, so long as the impacts do not constitute impairment. Moreover, an impact is less likely to constitute impairment if it is an unavoidable result of an action necessary to preserve or restore the integrity of park resources or values.

Human activity and past development have resulted in the ongoing disruption of natural systems and processes in Death Valley National Park for generations. The no-action alternative would result in future unplanned and uncoordinated actions that are merely reactive to immediate concerns. Furthermore, these actions would likely be responsive to immediate, short-term, adverse impacts that demand attention, but may result in long term impairment to park values and resources. Thus, the ability of the public to experience, understand, appreciate, and enjoy the park could be impaired under the no-action alternative.

The NPS has determined that implementing Alternative 1 will not constitute an impairment to Death Valley National Park's resources and values. This conclusion is based on a thorough analysis of the environmental impacts described in the Revised Draft EIS/GMP, the Abbreviated Final EIS/GMP, the public comments received, relevant scientific studies, and the professional judgment of the decision-maker guided by the direction in NPS Management Policies. While the plan may result in some minor negative impacts, in all cases these adverse impacts are the result of proactive strategies intended to implement the NPS mission, policies, and regulations in the management of Death Valley National Park. None of the proposals would result in impacts that would impair the integrity of park resources or values, including opportunities that would otherwise be present for the enjoyment of those resources or values. Overall, the plan results in major, long-term benefits to park resources and values and opportunities for their enjoyment; it does not result in their impairment.

The actions comprising Alternative 1 will achieve the goals of the California Desert Protection Act and NPS management policies (which include protecting and enhancing the natural and cultural resources of Death Valley and providing opportunities for high-quality, resource-based visitor experiences) in a comprehensive, integrated manner that takes into account the interplay between resource protection and visitor use. Actions implemented under Alternative 1 that would cause overall negligible adverse impacts, minor adverse impacts, short term impacts, and beneficial impacts to park resources and values, as described in the Revised Draft EIS/GMP and the Abbreviated Final EIS/GMP, will not constitute impairment. This is because these impacts have limited severity and/or duration and will not result in appreciable irreversible commitments of resources. Beneficial effects identified during the NEPA process include effects related to removal of exotic burros and protecting threatened park resources and values. Beneficial effects do not constitute impairment.

The collective actions discussed in Alternative 1 are proposed as a means of managing Death Valley National Park in a manner that would result in a protected native desert ecosystem that functions without interference from human activities, while allowing visitor use and Congressionally mandated resource consumptive activities. While some of these activities may seem contrary to the NPS preservation mission (e.g. grazing, mining), Congress specifically provides for these activities (under NPS regulation) in the park pursuant to the California Desert Protection Act. These activities may only be allowed subject to other applicable laws and regulations. This proposal outlines management strategies for these activities, and others, that would be implemented to minimize potential impacts from these activities to levels below the threshold of impairment. For example, all future mining operations would be required to undergo NPS review and impact analysis under 36 CFR part 9, subpart A. Also, a grazing management plan would be developed to manage the one remaining cattle grazing permit so that park resources are protected. The proposed actions included in this alternative would establish an overall management approach that would allow activities to occur in the park without impairing the integrity of park resources or values, including opportunities that would otherwise be present for the enjoyment of those resources or values.

In addition, the NPS has determined that the environmentally preferable alternative is Alternative 1. In aggregate, Alternative 1 best achieves the six conditions prescribed under § 101 of NEPA. While some of the actions in other alternatives may be similar to Alternative 1 in their effect and consequence, Alternative 1: (1) Provides the highest level of protection of natural and cultural resources while concurrently attaining the widest range of beneficial uses of the environment without degradation; (2) maintains an environment that supports diversity and variety of individual choice; and (3) integrates resource protection with opportunities for an appropriate range of visitor uses.

Measures to Minimize Environmental Harm: The NPS investigated all practical means to avoid or minimize environmental impacts that could result from implementating the various actions. The measures are fully incorporated into Alternative 1 (as analyzed in the Revised Draft EIS/GMP and the Abbreviated Final EIS/GMP (see Appendix E in Revised Draft EIS/GMP). Monitoring and enforcement programs will supplement the implementation of mitigation measures. These programs will assure compliance monitoring, biological and cultural resource protection, traffic management, noise and dust abatement, noxious weed control, pollution prevention measures, visitor safety and education, and other mitigation measures. Mitigation measures will also be applied to all future actions that are guided by this plan. In addition, the NPS will conduct specific compliance reviews (i.e., National Environmental Policy Act, Wilderness Act, National Historic Preservation Act, Endangered Species Act, and other relevant legislation) for any future actions.

Background of Planning Process: This extensive conservation planning effort was prompted by the enactment of the California Desert Protection Act (CDPA) on October 31, 1994. CDPA transferred over 3 million acres of California desert lands from the Bureau of Land Management (BLM) to the NPS and designated nearly 8 million acres of Wilderness on NPS and BLM lands. In addition, CDPA redesignated Death Valley as a national park (likewise Joshua Tree National Park, and Mojave National Preserve was created). Wide ranging changes confronting the management of the public lands in the California desert, including increasing wildland development, mounting public use pressures, the formal listing of the desert tortoise, and passage of CDPA itself prompted NPS, BLM, and U.S. Fish and Wildlife Service desert managers to address these and other anticipated changes through development of updated or new management plans.

The significant expansion of Death Valley National Park with 1.3 million additional acres and the designation of over 95% of the park's lands as Wilderness clearly warranted the development of a new general management plan (GMP) to update and replace a 1989 GMP written for the former Monument. The GMP will serve as the overall management strategy for the next 10-15 years, and is a “blueprint” under which more detailed activity or implementation plans are to be prepared (the new GMP is general rather than specific in nature, and focuses on purposes of the unit, significant attributes, overall mission of the agency, what activities are appropriate within these constraints, resource protection strategies, provides guidelines for visitor use and development of facilities for visitor enjoyment and administration of the park). The goal of the GMP is to determine how best to manage the park to meet Congressional intent as expressed in the CDPA and the mission of the NPS. It was the stated intention of this conservation planning effort to explore only alternatives that would result in an implementable management plan for the park. Alternatives that would require legislation before they could be implemented, were contrary to specific Congressional direction or NPS regulations or policy, or require vast sums of funding to implement, would create unreasonable expectations on the part of the public and would not serve the need of creating an implementable management plan for this unit. Therefore, only alternatives that explore the range of options for managing uses mandated by Congress were evaluated.

Preparation of this GMP began in 1995 with the selection and stationing of a planning team in Barstow, California. The Notice of Intent was published in the Federal Register on September 5, 1995. The planning team conducted 20 public scoping meetings in September 1995 and April 1997 to gather public input on the management direction for the park and BLM lands. In addition, a number of agency scoping meetings were held. From this input and meetings with interested parties (such as county departments, special interest groups, state agencies, Native American tribes, etc.) and discussions with NPS and BLM staff, proposed management plans were developed.

In September 1998 the Draft Environmental Impact Statement/General Management Plan (EIS/GMP) was released for public review. Approximately 450 printed copies (and 100 CD-ROMs) of the Draft EIS/GMP were distributed for review; the entire document was also posted on the internet with links from the park's homepage and the Northern and Eastern Mojave planning page. The notice of filing of the Draft EIS/GMP was published in the Federal Register by the Environmental Protection Agency (EPA) on September 11, 1998 (FR 48727). Written comments were accepted from September 11, 1998, through January 15, 1999, a period of 127 days. Eleven public meetings were held in October 1998 throughout the planning region of southern California and southern Nevada. In addition, the planning team participated in numerous meetings of the Death Valley Advisory Commission to obtain their feedback, concerns, and direction regarding the development of the GMP. Death Valley received approximately 600 comment letters from government agencies, tribes, interest groups, and individuals. In addition, members of environmental groups sent approximately 1,800 identical postcards. Several additional letters and postcards were received after the closing date for public comments.

Due to the large number of substantial changes required as a result of public comment on the 1998 Draft EIS/GMP, the NPS decided to rewrite the document. In September 2000, a Revised Draft Environmental Impact Statement and General Management Plan was released for 92 days of public review. Responses to written public comments on the 1998 Draft EIS/GMP were addressed in a separately bound report. A notice of filing was published in the Federal Register by the EPA on September 6, 2000 (FR 54062-54064). Eleven more public meetings on the revised materials were held in southern California and southern Nevada during October and November 2000. During the public comment period, a total of 47 written comments were received. All substantive comments on the 1998 Draft DEIS/GMP were addressed in a separate document that was made available concurrent with the Revised EIS/GMP.

After consideration of substantive public comments on the Revised EIS/GMP (which surfaced no new major issues or information gaps), the NPS decided to prepare an Abbreviated Final Environmental Impact Statement and General Management Plan, dated June 2001. The abbreviated format was used because changes to the revised draft document were minor and confined primarily to factual corrections, which do not modify the analysis. This abbreviated format requires that the material be integrated with the Revised Draft Environmental Impact Statement and General Management Plan to comprise the full record of the environmental impact analysis and public comment.

Conclusion: Alternative 1 provides the most comprehensive and proactive strategy among the alternatives considered for meeting the NPS's purposes, goals, and criteria for managing Death Valley National Park in accordance with Congressional direction, federal laws, and NPS management policies. The selection of Alternative 1, as reflected by the analysis contained in the environmental impact statement, would not result in the impairment of park resources and would allow the NPS to conserve park resources and provide for their enjoyment by visitors. To obtain a copy of the Presentation Plan document when it becomes available, or for the complete Record of Decision at this time, requests may be sent to the Superintendent, Death Valley National Park, Death Valley, California, 92328.

Dated: September 27, 2001.
Patricia L. Neubacher,
Acting Regional Director, Pacific West Region, National Park Service.

[FR Doc. 02-7248 Filed 3-25-02; 8:45 am]

BILLING CODE 4310-70-P